NATIONAL INDIAN GAMING COMMISSION

Notice of Approved Class III Tribal Gaming Ordinance

AGENCY: National Indian Gaming Commission.

ACTION: Notice.

SUMMARY: The purpose of this notice is to inform the public of the approval of Tonto Apache Tribe Class III gaming ordinance by the Chairman of the National Indian Gaming Commission.

DATES: This notice is applicable July 28, 2025.

FOR FURTHER INFORMATION CONTACT: Dena Wynn, Office of General Counsel at the National Indian Gaming Commission, 202-632-7003, or by facsimile at 202-632-7066 (not toll-free numbers).

SUPPLEMENTARY INFORMATION: The Indian Gaming Regulatory Act (IGRA) 25 U.S.C. 2701 et seq., established the National Indian Gaming Commission (Commission). Section 2710 of IGRA authorizes the Chairman of the Commission to approve Class II and Class III tribal gaming ordinances. Section 2710(d)(2)(B) of IGRA, as implemented by NIGC regulations, 25 CFR 522.8, requires the Chairman to publish, in the Federal Register, approved Class III tribal gaming ordinances and the approvals thereof.

IGRA requires all tribal gaming ordinances to contain the same requirements concerning tribes' sole proprietary interest and responsibility for the gaming activity, use of net revenues, annual audits, health and safety, background investigations and licensing of key employees and primary management officials. The Commission, therefore, believes that publication of each ordinance in the Federal Register would be redundant and result in unnecessary cost to the Commission.

Thus, the Commission believes that publishing a notice of approved Class III tribal gaming ordinances in the Federal Register, is sufficient to meet the requirements of 25 U.S.C. 2710(d)(2)(B). Every ordinance and approval thereof is posted on the Commission's website (www.nigc.gov) under General Counsel, Gaming Ordinances within five (5) business days of approval.

On February 21, 2024, Chairman of the National Indian Gaming Commission approved Tonto Apache Tribe Class III Gaming Ordinance. A copy of the approval letter is posted with this notice and can be found with the approved ordinance on the NIGC's website (www.nigc.gov) under General Counsel, Gaming Ordinances. A copy of the approved Class III ordinance will also be made available upon request. Requests can be made in writing to the Office of General Counsel, National Indian Gaming Commission, Attn: Dena Wynn, 1849 C Street NW, MS #1621, Washington, DC 20240 or at info@nigc.gov.

National Indian Gaming Commission.
Dated: December 6, 2024.
Rea Cisneros,
General Counsel (Acting).

Editorial Note: This document was received for publication by the Office of the Federal Register on July 24, 2025.

February 21, 2024

VIA EMAIL

Calvin Johnson, Chairman

Tonto Apache Tribe

Tonto Apache Reservation #30

Payson, AZ 85541

Re: Tonto Apache Tribe Amended Gaming Ordinance

Dear Chairman Johnson,

This letter responds to the January 30, 2024 resubmission on behalf of the Tonto Apache Tribe (Tribe) informing the National Indian Gaming Commission (NIGC) that the Tribe amended its gaming ordinance and regulations. We understand that these amendments reflect changes in tribal law and ensure consistency with federal and state law as required by its gaming compact with the state of Arizona. Upon review, many of the amendments are technical and non-substantive in nature, with some substantive changes made regarding the tribal gaming regulatory body and internal ethics standards.

We understand that that the Ordinance requires a “request for” fingerprints by the Executive Director on licensing applications, rather than just the fingerprints themselves. 25 CFR 556.4(a)(6) requires that for licensing applications, a tribe shall request from each primary management official and from each key employee fingerprints consistent with procedures adopted by said tribe. We interpret that the Tribe will still require fingerprint submissions for licensing applications consistent with our regulations.

Thank you for bringing these amendments to our attention. The amended ordinance and regulations, as noted above, are approved as they are consistent with the requirements of the Indian Gaming Regulatory Act and NICG's regulations. If you have any questions or require anything further, please contact Logan Takao Cooper at (503) 318-7524 or Logan.Takao-Cooper@nigc.gov.

Sincerely,

E. Sequoyah Simermeyer,

Chairman.

[FR Doc. 2025-14191 Filed 7-25-25; 8:45 am]

BILLING CODE 7565-01-P